FEDERAL ACCOUNTING STANDARDS ADVISORY BOARD

Notice of Release of the Exposure Draft of Technical Bulletin 2011-2, Extended Deferral of the Effective Date of Technical Bulletin 2006-1

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) has released the Exposure Draft of Technical Bulletin 2011-2, Extended Deferral of the Effective Date of Technical Bulletin 2006-1, Recognition and Measurement of Asbestos-Related Cleanup Costs.

The Exposure Draft is available on the FASAB home page http://www.fasab.gov/board-activities/documents-for-comment/exposure-drafts-and-documents-for-comment/. Copies can be obtained by contacting FASAB at (202) 512-7350. Respondents are encouraged to comment on any part of the exposure draft. Written comments on the Exposure Draft are requested by August 3, 2011. Comments on the Exposure Drafts should be sent to: Wendy M. Payne, Executive Director, Federal Accounting Standards Advisory Board, 441 G Street, NW., Suite 6814, Mail Stop 6K17V, Washington, DC 20548.

FOR FURTHER INFORMATION CONTACT: Wendy Payne, Executive Director, at (202) 512-7350.

Authority: Federal Advisory Committee Act, Pub. L. 92-463.

Dated: July 14, 2011.
Charles Jackson,
Federal Register Liaison Officer.

[FR Doc. 2011-18226 Filed 7-19-11; 8:45 am]

BILLING CODE 1610-02-P